NUCLEAR REGULATORY COMMISSION

[Docket No. 50-400]

Carolina Power & Light Company; Shearon Harris Nuclear Power Plant; Environmental Assessment and Finding of No Significant Impact

The U.S. Nuclear Regulatory Commission (NRC) is considering issuance of an exemption from 10 CFR 55.59(a) for Facility Operating License No. NPF-63, issued to Carolina Power & Light Company (the licensee), for operation of the Shearon Harris Nuclear Power Station, Unit 1 (HNP), located in Wake and Chatham Counties, North Carolina. Therefore, as required by 10 CFR 51.21, the NRC is issuing this environmental assessment and finding of no significant impact.

Environmental Assessment

Identification of the Proposed Action

The proposed action would allow the licensed operator requalification examinations for HNP to be rescheduled. The requested exemption would extend the completion date for the examinations from December 31, 2001, to March 31, 2002.

The proposed action is in accordance with the licensee's application dated January 19, 2001, as supplemented by letter dated May 7, 2001.

The Need for the Proposed Action

The proposed action would extend the current HNP requalification program from December 31, 2001, to March 31, 2002. HNP is scheduled to be in extended shutdown for refueling, steam generator replacement, and power uprate modifications during the end period of the current requalification cycle and when the full annual examination (comprehensive written examination and annual operating test) would need to be given. The licensee has stated that based on the training required for the new site procedures, modifications of the simulator to support outage modifications, training prior to the outage, and the implementation of the extended outage, the ability to complete the full annual examination within the 24-month requalification cycle is not possible.

Environmental Impacts of the Proposed Action

The NRC has completed its evaluation of the proposed action and concludes that there are no environmental impacts associated with the extension of the operator requalification examinations from December 31, 2001, to March 31, 2002. The proposed action will not significantly increase the probability or consequences of accidents, no changes are being made in the types or amounts of effluents that may be released off site, and there is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resource than those previously considered in the Final Environmental Statement for HNP.

Agencies and Persons Consulted

On June 29, 2001, the staff consulted with the North Carolina State official, Mr. Johnny James, of the Division of Radiation Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 19, 2001, as supplemented by letter dated May 7, 2001. Documents may be examined, and/or copied for a fee, at the NRC's Public Document Room, located at One White Flint North, 11555 Rockville Pike (first floor), Rockville, Maryland. Publicly available records will be accessible electronically from the ADAMS Public Library component on the NRC Web site, http://www.nrc.gov (the Public Electronic Reading Room). If you do not have access to ADAMS or if there are problems in accessing the documents located in ADAMS, contact the NRC Public Document Room (PDR) Reference staff at 1-800-397-4209, or 301-415-4737, or by e-mail at pdr@nrc.gov.

Dated at Rockville, Maryland, this 13th day of July 2001.
For the Nuclear Regulatory Commission.
N. Kalyanam,
Project Manager, Section 2, Project Directorate II, Division of Licensing Project Management, Office of Nuclear Reactor Regulation.

[FR Doc. 01-18327 Filed 7-20-01; 8:45 am]

BILLING CODE 7590-01-P